OFFICE OF THE UNITED STATES TRADE REPRESENTATIVE

[Docket No. USTR-2019-0003]

Ministerial Error Correction: Enforcement of U.S. WTO Rights in Large Civil Aircraft Dispute

AGENCY: Office of the United States Trade Representative.

ACTION: Correction of ministerial error.

SUMMARY: In a notice published February 21, 2020 (February 21 notice), the U.S. Trade Representative determined to modify the action being taken in this Section 301 investigation. This notice corrects a ministerial error in the consolidated list of descriptive subheadings included in Section 2 of Annex 2 of the February 21 notice. The operative tariff language in Annex 1 of the February 21 notice is not affected.

DATES: The corrected, consolidated list of descriptive subheadings annexed to this notice replaces Section 2 of Annex 2 of the February 21 notice.

FOR FURTHER INFORMATION CONTACT: For questions about this notice, contact Assistant General Counsel Megan Grimball at (202) 395-5725. For questions on customs classification of products covered by this action, contact Traderemedy@cbp.dhs.gov.

SUPPLEMENTARY INFORMATION: For background on the proceedings in this investigation, please see the prior notices issued in the investigation including 84 FR 15028 (April 12, 2019), 84 FR 32248 (July 5, 2019), 84 FR 54245 (October 9, 2019), 84 FR 55998 (October 18, 2019), 84 FR 67992 (December 12, 2019), and 85 FR 10204 (February 21, 2020).

In a notice published February 21, 2020 (85 FR 10204), the U.S. Trade Representative announced certain revisions to the October 18, 2019, action taken to enforce U.S. WTO Rights in the Large Civil Aircraft Dispute. Annex 1 to the February 21 notice contains the operative tariff language, identifying the products affected by the revised action, the rate of duty to be assessed, and the current or former EU member States affected. Annex 2, Section 1, of the February 21 notice contains a description of the changes from the October 18 action. Neither of these annexes is affected by this notice.

The Office of the United States Trade Representative (USTR) has become aware of a ministerial error in Annex 2, Section 2, of the February 21 notice, which contains a consolidated list of descriptive subheadings covered by the revised action. In particular, the consolidated list in Annex 2, Section 2, of the February 21 notice consists of the products covered by the October 18 action, as revised by the modifications made by the February 21 notice.

Due to a ministerial error, Annex 2, Section 2, Part 11, of the February 21 notice included a tariff subheading not covered by the revised action (9013.10.10), and excluded a tariff subheading covered by the revised action (8211.93.00). To avoid any possible confusion, the Annex to this notice contains a corrected consolidated list of descriptive subheadings. The corrected consolidated list in the annex to this notice replaces Annex 2, Section 2, of the February 21 notice.

Joseph Barloon,
General Counsel, Office of the U.S. Trade Representative.

Annex

Corrected Descriptive List of Action, Reflecting Changes as Described in Annex 1 of the Notice Published at 85 FR 10204 (February 21, 2020)

Note: The product descriptions that are contained this Annex are provided for informational purposes only, and are not intended to delimit in any way the scope of the action, except as specified below. In all cases, the formal language in notices published at 85 FR 10204, 84 FR 54245 and 84 FR 55998 governs the tariff treatment of products covered by the action.

Any questions regarding the scope of particular HTS subheadings should be referred to U.S. Customs and Border Protection. In the product descriptions, the abbreviation “nesoi” means “not elsewhere specified or included”.

Part 1—Products of France, Germany, Spain, or the United Kingdom described below are subject to additional import duties of 10 percent ad valorem. Effective March 18, 2020, products of France, Germany, Spain or the United Kingdom described below are subject to additional imports of 15 percent ad valorem:

Note: For purposes of the 8-digit subheading of HTS listed below, the product description defines and limits the scope of the proposed action.

HTS subheading | Product description
8802.40.00 ** | New airplanes and other new aircraft, as defined in U.S. note 21(b), (other than military airplanes or other military aircraft), of an unladen weight exceeding 30,000 kg (described in statistical reporting numbers 8802.40.0040, 8802.40.0060 or 8802.40.0070).
** Only a portion of HS8 digit is to be covered.

Part 2—Products of Austria, Belgium, Bulgaria, Croatia, Cyprus, Czech Republic, Denmark, Estonia, Finland, France, Germany, Greece, Hungary, Ireland, Italy, Latvia, Lithuania, Luxembourg, Malta, Netherlands, Poland, Portugal, Romania, Slovakia, Slovenia, Spain, Sweden, or the United Kingdom described below are subject to additional import duties of 25 percent ad valorem:

HTS subheading | Product description
0403.10.50 | Yogurt, in dry form, whether or not flavored or containing added fruit or cocoa, not subject to gen note 15 or add. U.S. note 10 to Ch.4.
0403.90.85 | Fermented milk o/than dried fermented milk or o/than dried milk with added lactic ferments.
0403.90.90 | Curdled milk/cream/kephir & other fermented or acid. milk/cream subject to add U.S. note 10 to Ch.4.
0405.20.20 | Butter substitute dairy spreads, over 45% butterfat weight, subject to quota pursuant to chapter 4 additional U.S. note 14.
0406.10.28 | Fresh (unripened/uncured) cheddar cheese, cheese/subs for cheese cont or proc from cheddar cheese, not subj to Ch4 U.S. note 18, not GN15.
0406.10.54 | Fresh (unripened/uncured) Italian-type cheeses from cow milk, cheese/substitutes containing such Italian-type cheeses or processed therefrom, subj to Ch4 U.S. note 21, not subject to general note 15.
0406.10.58 | Fresh (unrip./uncured) Italian-type cheeses from cow milk, cheese/substitutes cont or proc therefrom, not subj to Ch4 U.S. note 21 or GN15.
0406.10.68 | Fresh (unripened/uncured) Swiss/Emmentaler cheeses, except those with eye formation, gruyere-process cheese and cheese cont or proc. from such, not subject to additional U.S. note 22 to ch4.
0406.20.51 | Romano, reggiano, provolone, provoletti, sbrinz and goya, made from cow's milk, grated or powdered, subject to additional U.S. note 21 to Ch.4.
0406.20.53 | Romano, reggiano, provolone, provoletti, sbrinz and goya, made from cow's milk, grated or powdered, not subject to Ch4 U.S. note 21 or GN15.
0406.20.69 | Cheese containing or processed from american-type cheese (except cheddar), grated or powdered, subject to additional U.S. note 19 to Ch. 4.
0406.20.77 | Cheese containing or processed from italian-type cheeses made from cow's milk, grated or powdered, subject to additional U.S. note 21 to Ch. 4.
0406.20.79 | Cheese containing or processed from italian-type cheeses made from cow's milk, grated or powdered, not subject to additional U.S. note 21 to Ch. 4.
0406.20.87 | Cheese (including mixtures), nesoi, n/o 0.5 percent by wt. of butterfat, grated or powdered, not subject to additional U.S. note 23 to Ch. 4.
0406.20.91 | Cheese (including mixtures), nesoi, o/0.5 percent by wt of butterfat, w/cow's milk, grated or powdered, not subject to additional U.S. note 16 to Ch. 4.
0406.30.05 | Stilton cheese, processed, not grated or powdered, subject to additional U.S. note 24 to Ch. 4.
0406.30.18 | Blue-veined cheese (except Roquefort), processed, not grated or powdered, not subject to gen. note 15 or additional U.S. note 17 to Ch. 4.
0406.30.28 | Cheddar cheese, processed, not grated or powdered, not subject to gen note 15 or to additional U.S. note 18 to Ch. 4.
0406.30.34 | Colby cheese, processed, not grated or powdered, subject to additional U.S. note 19 to Ch. 4.
0406.30.38 | Colby cheese, processed, not grated or powdered, not subject to gen note 15 or additional U.S. note 19 to Ch. 4.
0406.30.55 | Processed cheeses made from sheep's milk, including mixtures of such cheeses, not grated or powdered.
0406.30.69 | Processed cheese containing or processed from american-type cheese (except cheddar), not grated/powdered, subject to additional U.S. note 19 to Ch. 4, not subject to GN15.
0406.30.79 | Processed cheese containing or processed from Italian-type, not grated/powdered, not subject to additional U.S. note 21 to Ch. 4, not GN15.
0406.40.44 | Stilton cheese, nesoi, in original loaves, subject to additional U.S. note 24 to Ch. 4.
0406.40.48 | Stilton cheese, nesoi, not in original loaves, subject to additional U.S. note 24 to Ch. 4.
0406.90.32 | Goya cheese from cow's milk, not in original loaves, nesoi, not subject to gen. note 15 or to additional U.S. note 21 to Ch. 4.
0406.90.43 | Reggiano, Parmesan, Provolone, and Provoletti cheese, nesoi, not from cow's milk, not subject to gen. note 15.
0406.90.52 | Colby cheese, nesoi, subject to additional U.S. note 19 to Ch. 4 and entered pursuant to its provisions.
0406.90.54 | Colby cheese, nesoi, not subject to gen. note 15 or to add. U.S. note 19 to Ch. 4.
0406.90.68 | Cheeses & subst. for cheese(incl. mixt.), nesoi, w/romano/reggiano/parmesan/provolone/etc., f/cow milk, not subj. Ch4 U.S. note 21, not GN15.
0406.90.72 | Cheeses & subst. for cheese (incl. mixt.), nesoi, w/or from blue-veined cheese, subj. to add. U.S. note 17 to Ch.4, not GN15.
0406.90.74 | Cheeses & subst. for cheese (incl. mixt.), nesoi, w/or from blue-veined cheese, not subj. to add. U.S. note 17 to Ch.4, not GN15.
0406.90.82 | Cheeses & subst. for cheese (incl. mixt.), nesoi, w/or from Am. cheese except cheddar, subj. to add. U.S. note 19 to Ch.4, not GN15.
0406.90.92 | Cheeses & subst. for cheese (incl. mixt.), nesoi, w/or from swiss, emmentaler or gruyere, not subj. Ch4 U.S. note 22, not GN15.
0406.90.94 | Cheeses & subst. for cheese (incl. mixt.), nesoi, w/butterfat n/o 0.5 percent by wt, not subject to additional U.S. note 23 to Ch. 4, not GN15.
0805.10.00 | Oranges, fresh or dried.
0805.21.00 | Mandarins and other similar citrus hybrids including tangerines, satsumas, clementines, wilkings, fresh or dried.
0805.22.00 | Clementines, fresh or dried, other.
0805.50.20 | Lemons, fresh or dried.
0812.10.00 | Cherries, provisionally preserved, but unsuitable in that state for immediate consumption.
0813.40.30 | Cherries, dried.
1602.49.10 | Prepared or preserved pork offal, including mixtures.
1605.53.05 | Mussels, containing fish meats or in prepared meals.
1605.56.05 | Products of clams, cockles, and arkshells containing fish meat; prepared meals.
1605.56.10 | Razor clams, in airtight containers, prepared or preserved, nesoi.
1605.56.15 | Boiled clams in immediate airtight containers, the contents of which do not exceed 680 g gross weight.
1605.56.20 | Clams, prepared or preserved, excluding boiled clams, in immediate airtight containers, nesoi.
1605.56.30 | Clams, prepared or preserved, other than in airtight containers.
1605.56.60 | Cockles and arkshells, prepared or preserved.
1605.59.05 | Products of molluscs nesoi containing fish meat; prepared meals of molluscs nesoi.
1605.59.60 | Molluscs nesoi, prepared or preserved.

Part 3—Products of Germany, Spain, or the United Kingdom described below are subject to additional import duties of 25 percent ad valorem:

HTS subheading | Product description
0203.29.40 | Frozen meat of swine, other than retail cuts, nesoi.
0404.10.05 | Whey protein concentrates.
0406.10.84 | Fresh cheese, and substitutes for cheese, cont. cows milk, neosi, over 0.5 percent by wt. of butterfat, descr in add U.S. note 16 to Ch 4, not GN15.
0406.10.88 | Fresh cheese, and substitutes for cheese, cont. cows milk, neosi, over 0.5 percent by wt. of butterfat, not descr in add U.S. note 16 to Ch 4, not GN 15.
0406.10.95 | Fresh cheese, and substitutes for cheese, not cont. cows milk, neosi, over 0.5 percent by wt. of butterfat.
0406.90.16 | Edam and gouda cheese, nesoi, subject to additional U.S. note 20 to Ch. 4.
0406.90.56 | Cheeses, nesoi, from sheep's milk in original loaves and suitable for grating.
1509.10.20 | Virgin olive oil and its fractions, whether or not refined, not chemically modified, weighing with the immediate container under 18 kg.
1509.90.20 | Olive oil, other than virgin olive oil, and its fractions, not chemically modified, weighing with the immediate container under 18 kg.
2005.70.12 | Olives, green, not pitted, in saline, not ripe.
2005.70.25 | Olives, green, in a saline solution, pitted or stuffed, not place packed.

Part 4—Products of Austria, Belgium, Bulgaria, Croatia, Cyprus, Czech Republic, Denmark, Estonia, Finland, Germany, Greece, Hungary, Ireland, Italy, Latvia, Lithuania, Luxembourg, Malta, Netherlands, Portugal, Romania, Slovakia, Slovenia, Spain, Sweden, or the United Kingdom described below are subject to additional import duties of 25 percent ad valorem:

HTS subheading | Product description
0403.10.90 | Yogurt, not in dry form, whether or not flavored or containing add fruit or cocoa.
0405.10.10 | Butter subject to quota pursuant to chapter 4 additional U.S. note 6.
0405.10.20 | Butter not subject to general note 15 and in excess of quota in chapter 4 additional U.S. note 6.
0406.30.89 | Processed cheese (incl. mixtures), nesoi, w/cow's milk, not grated or powdered, subject to add U.S. note 16 to Ch. 4, not subject to GN15.
0406.90.99 | Cheeses & subst. for cheese (incl. mixt.), nesoi, w/o cows milk, w/butterfat over 0.5 percent by wt, not subject to GN15.
0811.90.80 | Fruit, nesoi, frozen, whether or not previously steamed or boiled.
1601.00.20 | Pork sausages and similar products of pork, pork offal or blood; food preparations based on these products.
2008.60.00 | Cherries, otherwise prepared or preserved, nesoi.
2008.70.20 | Peaches (excluding nectarines), otherwise prepared or preserved, not elsewhere specified or included.
2008.97.90 | Mixtures of fruit or other edible parts of plants, otherwise prepared or preserved, nesoi (excluding tropical fruit salad).
2009.89.65 | Cherry juice, concentrated or not concentrated.
2009.89.80 | Juice of any single vegetable, other than tomato, concentrated or not concentrated.

Part 5—Products of Austria, Belgium, Bulgaria, Croatia, Cyprus, Czech Republic, Denmark, Estonia, Finland, France, Germany, Greece, Hungary, Ireland, Italy, Latvia, Lithuania, Luxembourg, Malta, Netherlands, Portugal, Romania, Slovakia, Slovenia, Spain, Sweden, or the United Kingdom described below are subject to additional import duties of 25 percent ad valorem:

HTS subheading | Product description
0405.20.30 | Butter substitute dairy spreads, over 45 percent butterfat weight, not subj to gen. note 15 and in excess of quota in Ch. 4 additional U.S. note 14.
0405.20.80 | Other dairy spreads, not butter substitutes or of a type provided for in chapter 4 additional U.S. note 1.
0406.30.85 | Processed cheese (incl. mixtures), nesoi, not over 0.5 percent by wt. butterfat, not grated or powdered, subject to Ch. 4 U.S. note 23, not GN15.
0406.90.78 | Cheeses & subst. for cheese (incl. mixt.), nesoi, w/or from cheddar cheese, not subj. to add. U.S. note 18 to Ch. 4, not GN15.
1602.41.90 | Prepared or preserved pork hams and cuts thereof, not containing cereals or vegetables, nesoi.
1602.42.20 | Pork shoulders and cuts thereof, boned and cooked and packed in airtight containers.
1602.42.40 | Prepared or preserved pork shoulders and cuts thereof, other than boned and cooked and packed in airtight containers.
1602.49.40 | Prepared or preserved pork, not containing cereals or vegetables, nesoi.
1602.49.90 | Prepared or preserved pork, nesoi.

Part 6—Products of Austria, Belgium, Bulgaria, Croatia, Cyprus, Czech Republic, Denmark, Estonia, Finland, Germany, Greece, Hungary, Ireland, Italy, Latvia, Lithuania, Luxembourg, Malta, Netherlands, Poland, Portugal, Romania, Slovakia, Slovenia, Spain, Sweden, or the United Kingdom described below are subject to additional import duties of 25 percent ad valorem:

HTS subheading | Product description
0405.90.10 | Fats and oils derived from milk, other than butter or dairy spreads, subject to quota pursuant to chapter 4 additional U.S. note 14.
0406.30.51 | Gruyere-process cheese, processed, not grated or powdered, subject to additional U.S. note 22 to Ch. 4.
0406.30.53 | Gruyere-process cheese, processed, not grated or powdered, not subject to gen. note 15 or additional U.S. note 22 to Ch. 4.
0406.40.54 | Blue-veined cheese, nesoi, in original loaves, subject to add. U.S. note 17 to Ch. 4.
0406.90.08 | Cheddar cheese, neosi, subject to add. U.S. note 18 to Ch. 4.
0406.90.12 | Cheddar cheese, nesoi, not subject to gen. note 15 of the HTS or to additional U.S. note 18 to Ch. 4.
0406.90.41 | Romano, Reggiano, Parmesan, Provolone, and Provoletti cheese, nesoi, from cow's milk, subject to add. U.S. note 21 to Ch. 4.
0406.90.42 | Romano, Reggiano, Parmesan, Provolone, and Provoletti cheese, nesoi, from cow's milk, not subj to GN 15 or Ch. 4 additional U.S. note 21.
0406.90.48 | Swiss or Emmentaler cheese with eye formation, nesoi, not subject to gen. note 15 or to additional U.S. note 25 to Ch. 4.
0406.90.90 | Cheeses & subst. for cheese (incl. mixt.), nesoi, w/or from swiss, emmentaler or gruyere, subj. to add. U.S. note 22 to Ch. 4, not GN15.
0406.90.97 | Cheeses & subst. for cheese (incl. mixt.), nesoi, w/cow's milk, w/butterfat over 0.5 percent by wt., not subject to Ch4 U.S. note 16, not subject to GN15.
1605.53.60 | Mussels, prepared or preserved.
2007.99.70 | Currant and berry fruit jellies.
2008.40.00 | Pears, otherwise prepared or preserved, nesoi.
2009.89.20 | Pear juice, concentrated or not concentrated.

Part 7—Products of Austria, Belgium, Bulgaria, Croatia, Cyprus, Czech Republic, Denmark, Estonia, Germany, Greece, Hungary, Ireland, Italy, Latvia, Lithuania, Luxembourg, Malta, Netherlands, Portugal, Romania, Slovakia, Slovenia, Spain, Sweden, or the United Kingdom described below are subject to additional import duties of 25 percent ad valorem:

HTS subheading | Product description
0406.90.46 | Swiss or Emmentaler cheese with eye formation, nesoi, subject to add. U.S. note 25 to Ch. 4.

Part 8—Products of Austria, Belgium, Croatia, Cyprus, Czech Republic, Denmark, Estonia, Finland, Germany, Greece, Hungary, Ireland, Italy, Latvia, Lithuania, Luxembourg, Malta, Netherlands, Poland, Portugal, Romania, Slovakia, Slovenia, Spain, Sweden, or the United Kingdom described below are subject to additional import duties of 25 percent ad valorem:

HTS subheading | Product description
0406.90.57 | Pecorino cheese, from sheep's milk, in original loaves, not suitable for grating.

Part 9—Products of Austria, Belgium, Bulgaria, Croatia, Cyprus, Czech Republic, Denmark, Estonia, Finland, Germany, Greece, Hungary, Ireland, Italy, Latvia, Luxembourg, Malta, Netherlands, Portugal, Romania, Slovakia, Slovenia, Spain, Sweden, or the United Kingdom described below are subject to additional import duties of 25 percent ad valorem:

HTS subheading | Product description
0406.90.95 | Cheeses & subst. for cheese (incl. mixt.), nesoi, w/cows milk, w/butterfat over 0.5 percent by wt., subject to Ch. 4 additional U.S. note 16 (quota).

Part 10—Products of France, Germany, Spain, or the United Kingdom described below are subject to additional import duties of 25 percent ad valorem:

HTS subheading | Product description
0711.20.18 | Olives, n/pitted, green, in saline sol., in contain. >8 kg, drained wt, for repacking or sale, subject to additional U.S. note 5 to Ch. 7.
0711.20.28 | Olives, n/pitted, green, in saline sol., in contain. >8 kg, drained wt, for repacking or sale, not subject to additional U.S. note 5 to Ch. 7.
0711.20.38 | Olives, n/pitted, nesoi.
0711.20.40 | Olives, pitted or stuffed, provisionally preserved but unsuitable in that state for immediate consumption.
2005.70.08 | Olives, green, not pitted, in saline, not ripe, in containers holding over kg for repkg, not subject to add. U.S. note 4 to Ch. 20.
2005.70.16 | Olives, green, in saline, place packed, stuffed, in containers holding not over 1 kg, aggregate quantity n/o 2700 m ton/yr.
2005.70.23 | Olives, green, in saline, place packed, stuffed, not in containers holding 1 kg or less.
2204.21.50 | Wine other than Tokay (not carbonated), not over 14 percent alcohol, in containers not over 2 liters.

Part 11—Products of Germany described below are subject to additional import duties of 25 percent ad valorem:

HTS subheading | Product description
0901.21.00 | Coffee, roasted, not decaffeinated.
0901.22.00 | Coffee, roasted, decaffeinated.
2101.11.21 | Instant coffee, not flavored.
8201.40.60 | Axes, bill hooks and similar hewing tools (o/than machetes), and base metal parts thereof.
8203.20.20 | Base metal tweezers.
8203.20.60 | Pliers (including cutting pliers but not slip joint pliers), pincers and similar tools.
8203.30.00 | Metal cutting shears and similar tools, and base metal parts thereof.
8203.40.60 | Pipe cutters, bolt cutters, perforating punches and similar tools, nesoi, and base metal parts thereof.
8205.40.00 | Screwdrivers and base metal parts thereof.
8211.93.00 | Knives having other than fixed blades.
8211.94.50 | Base metal blades for knives having other than fixed blades.
8467.19.10 | Tools for working in the hand, pneumatic, other than rotary type, suitable for metal working.
8467.19.50 | Tools for working in the hand, pneumatic, other than rotary type, other than suitable for metal working.
8468.80.10 | Machinery and apparatus, hand-directed or -controlled, used for soldering, brazing or welding, not gas-operated.
8468.90.10 | Parts of hand-directed or -controlled machinery, apparatus and appliances used for soldering, brazing, welding or tempering.
8514.20.40 | Industrial or laboratory microwave ovens for making hot drinks or for cooking or heating food.
9002.11.90 | Objective lenses and parts & access. thereof, for cameras, projectors, or photographic enlargers or reducers, except projection, nesoi.

Part 12—Products of Austria, Belgium, Bulgaria, Croatia, Cyprus, Czech Republic, Estonia, Finland, Germany, Greece, Hungary, Ireland, Italy, Latvia, Lithuania, Luxembourg, Malta, Netherlands, Portugal, Romania, Slovakia, Slovenia, Spain, Sweden, or the United Kingdom described below are subject to additional import duties of 25 percent ad valorem:

HTS subheading | Product description
1602.49.20 | Pork other than ham and shoulder and cuts thereof, not containing cereals or vegetables, boned and cooked and packed in airtight containers.

Part 13—Products of Germany or the United Kingdom described below are subject to additional import duties of 25 percent ad valorem:

HTS subheading | Product description
1905.31.00 | Sweet biscuits.
1905.32.00 | Waffles and wafers.
4901.10.00 | Printed books, brochures, leaflets and similar printed matter in single sheets, whether or not folded.
4908.10.00 | Transfers (decalcomanias), vitrifiable.
4911.91.20 | Lithographs on paper or paperboard, not over 0.51 mm in thickness, printed not over 20 years at time of importation.
4911.91.30 | Lithographs on paper or paperboard, over 0.51 mm in thickness, printed not over 20 years at time of importation.
4911.91.40 | Pictures, designs and photographs, excluding lithographs on paper or paperboard, printed not over 20 years at time of importation.
8429.52.10 | Self-propelled backhoes, shovels, clamshells and draglines with a 360 degree revolving superstructure.
8429.52.50 | Self-propelled machinery with a 360 degree revolving superstructure, other than backhoes, shovels, clamshells and draglines.
8467.29.00 | Electromechanical tools for working in the hand, other than drills or saws, with self-contained electric motor.

Part 14—Products of Germany, Ireland, Italy, Spain, or the United Kingdom described below are subject to additional import duties of 25 percent ad valorem:

HTS subheading | Product description
2208.70.00 | Liqueurs and cordials.

Part 15—Products of the United Kingdom described below are subject to additional import duties of 25 percent ad valorem:

Note: For purposes of 2208.30.30, the product description defines and limits the scope of the proposed action.

HTS subheading | Product description
2208.30.30 ** | Single-malt Irish and Scotch Whiskies.
6110.11.00 | Sweaters, pullovers, sweatshirts, waistcoats (vests) and similar articles, knitted or crocheted, of wool.
6110.12.10 | Sweaters, pullovers, sweatshirts, waistcoats (vests) and similar articles, knitted or crocheted, of Kashmir goats, wholly of cashmere.
6110.20.20 | Sweaters, pullovers and similar articles, knitted or crocheted, of cotton, nesoi.
6110.30.30 | Sweaters, pullovers and similar articles, knitted or crocheted, of manmade fibers, nesoi.
6202.99.15 | Rec perf outwear, women's/girls' anoraks, wind-breakers & similar articles, not k/c, tex mats (not wool, cotton or mmf), cont <70 percent by wt of silk.
6202.99.80 | Women's/girls' anoraks, wind-breakers & similar articles, not k/c, of tex mats (not wool, cotton or mmf), cont <70% by wt of silk.
6203.11.60 | Men's or boys' suits of wool, not knitted or crocheted, nesoi, of wool yarn with average fiber diameter of 18.5 micron or less.
6203.11.90 | Men's or boys' suits of wool or fine animal hair, not knitted or crocheted, nesoi.
6203.19.30 | Men's or boys' suits, of artificial fibers, nesoi, not knitted or crocheted.
6203.19.90 | Men's or boys' suits, of textile mats (except wool, cotton or mmf), containing under 70 percent by weight of silk or silk waste, not knit or crocheted.
6208.21.00 | Women's or girls' nightdresses and pajamas, not knitted or crocheted, of cotton.
6211.12.40 | Women's or girls' swimwear, of textile materials (except mmf), containing 70% or more by weight of silk or silk waste, not knit or crocheted.
6211.12.80 | Women's or girls' swimwear, of textile materials (except mmf), containing under 70% by weight of silk or silk waste, not knit or crocheted.
6301.30.00 | Blankets (other than electric blankets) and traveling rugs, of cotton.
6301.90.00 | Blankets and traveling rugs, nesoi.
6302.21.50 | Bed linen, not knit or crocheted, printed, of cotton, cont any embroidery, lace, braid, edging, trimming, piping or applique work, n/napped.
6302.21.90 | Bed linen, not knit or croc, printed, of cotton, not cont any embroidery, lace, braid, edging, trimming, piping or applique work, not napped.
**Only a portion of HS8 digit is to be covered.

Part 16—Products of France or Germany described below are subject to additional import duties of 25 percent ad valorem:

HTS subheading | Product description
8214.90.60 | Butchers' or kitchen chopping or mincing knives (o/than cleavers w/their handles).

[FR Doc. 2020-05033 Filed 3-11-20; 8:45 am]

BILLING CODE 3290-F0-P